DEPARTMENT OF COMMERCE

Foreign-Trade Zones Board

[Order No. 1378]

Expansion of Foreign-Trade Zone 158 Vicksburg/Jackson, MI

Pursuant to its authority under the Foreign-Trade Zones Act of June 18, 1934, as amended (19 U.S.C. 81a-81u), the Foreign-Trade Zones Board (the Board) adopts the following Order:

Whereas, the Vicksburg/Jackson Foreign-Trade Zone, Inc., grantee of Foreign-Trade Zone 158, submitted an application to the Board for authority to expand FTZ 158 to include eight sites (Sites 10-17) in Lee County, Mississippi, adjacent to the Memphis, Tennessee, Customs port of entry and to restore zone status to 124 acres at Site 2 (Jackson International Airport Complex) in Jackson, Mississippi, within the Jackson Customs port of entry (FTZ Docket 30-2004; filed 7/28/04);

Whereas, notice inviting public comment was given in the Federal Register (69 FR 47865, 8/6/04) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 158 is approved, subject to the Act and the Board's regulations, including Section 400.28, and subject to the Board's standard 2,000-acre activation limit for the overall zone project, and further subject to a sunset provision that would terminate authority for the proposed sites on March 31, 2012, unless the sites are activated under FTZ procedures.

Signed in Washington, DC, this 8th day of March, 2005.
Joseph A. Spetrini,
Acting Assistant Secretary of Commerce for Import Administration, Alternate Chairman, Foreign-Trade Zones Board.
Attest:
Dennis Puccinelli,
Executive Secretary.

[FR Doc. 05-5533 Filed 3-18-05; 8:45 am]

BILLING CODE 3510-DS-P